DEPARTMENT OF COMMERCE

Foreign-Trade Zones Board

[B-36-2021]

Foreign-Trade Zone (FTZ) 208—New London, Connecticut; Notification of Proposed Production Activity; Sheffield Pharmaceuticals, LLC (Over-the-Counter (OTC) Healthcare Products); New London and Norwich, Connecticut

Sheffield Pharmaceuticals, LLC (Sheffield) submitted a notification of proposed production activity to the FTZ Board for its facilities in New London and Norwich, Connecticut. The notification conforming to the requirements of the regulations of the FTZ Board (15 CFR 400.22) was received on April 21, 2021.

A separate application has been submitted for FTZ designation at the company's facilities under FTZ 208. The facilities are used for the production of OTC healthcare products. Pursuant to 15 CFR 400.14(b), FTZ activity would be limited to the specific foreign-status materials and components and specific finished products described in the submitted notification (as described below) and subsequently authorized by the FTZ Board.

Production under FTZ procedures could exempt Sheffield from customs duty payments on the foreign-status components used in export production. On its domestic sales, for the foreign-status materials/components noted below, Sheffield would be able to choose the duty rate during customs entry procedures that applies to decongestant nasal spray, saline nasal spray and toothpaste (duty-free). Sheffield would be able to avoid duty on foreign-status components which become scrap/waste. Customs duties also could possibly be deferred or reduced on foreign-status production equipment.

The components and materials sourced from abroad include plastic bottles, plastic stoppers with dip tubes, plastic spray pumps and caps for bottles, and plastic/foil laminate collapsible tubes (duty rate ranges from 3 to 5.3%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is June 15, 2021.

A copy of the notification will be available for public inspection in the “Reading Room” section of the Board's website, which is accessible via www.trade.gov/ftz.

For further information, contact Diane Finver at Diane.Finver@trade.gov or (202) 482-1367.

Dated: April 30, 2021.
Andrew McGilvray,
Executive Secretary.

[FR Doc. 2021-09549 Filed 5-5-21; 8:45 am]

BILLING CODE 3510-DS-P